DEPARTMENT OF COMMERCE

Census Bureau

Agency Information Collection Activities; Submission to the Office of Management and Budget (OMB) for Review and Approval; Comment Request; 2022 Commodity Flow Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 23, 2021 during a 60-day comment period. This notice allows for an additional 30 days for public comments.

Agency: U.S. Census Bureau, Department of Commerce.

Title: 2022 Commodity Flow Survey.

OMB Control Number: 0607-0932.

Form Number(s): CFS-1000.

Type of Request: Regular submission, Request for a Reinstatement, with Change, of a Previously Approved Collection.

Number of Respondents: 160,000.

Average Hours per Response: Quarters 1 and 4-2.5 hours; Quarters 2 and 3-1.5 hours.

Burden Hours: 1,280,000.

Needs and Uses: The U.S. Census Bureau plans to conduct the 2022 Commodity Flow Survey (CFS), a component of the 2022 Economic Census, as it is the only comprehensive source of multi-modal, system-wide data on the volume and pattern of goods movement in the United States. The CFS is conducted in partnership with the Bureau of Transportation Statistics (BTS), Office of the Assistant Secretary for Research and Technology, U.S. Department of Transportation (DOT) and the Pipeline and Hazardous Materials Safety Administration (PHMSA), U.S. Department of Transportation.

The survey provides a crucial set of statistics on the value, weight, mode, and distance of commodities shipped by mining, manufacturing, wholesale, and selected retail and services establishments, as well as auxiliary establishments that support these industries. The Census Bureau will publish these shipment characteristics for the nation, census regions and divisions, states, and CFS defined geographic areas. As with the 2017 Commodity Flow Survey, this survey also identifies export, hazardous material, and temperature-controlled shipments.

BTS is mandated by Congress under Title 49 to collect economic data on transportation mode choice and goods movement. This information informs freight flows and is critical to understanding the use, performance, and condition of the nation's transportation system, as well as informing transportation investments. Data on the movement of freight also are important for effective analyses of changes in regional and local economic development, safety issues, and environmental concerns. They also provide the private sector with valuable data needed for critical decision-making on a variety of issues including market trends, analysis, and segmentation. Each day, governments, businesses, and consumers make countless decisions about where to go, how to get there, what to ship and which transportation modes to use. Transportation constantly responds to external forces such as shifting markets, changing demographics, safety concerns, weather conditions, energy and environmental constraints, and national defense requirements. Good decisions require having the right information in the right form at the right time.

The CFS provides critical data to federal, state and local government agencies to make a wide range of transportation investment decisions for developing and maintaining an efficient transportation infrastructure that supports economic growth and competitiveness.

Transportation planners require the periodic benchmarks provided by a continuing CFS to evaluate and respond to ongoing geographic shifts in production and distribution centers, as well as policies such as “just in time delivery.”

The 2022 CFS will be an electronic reporting sample survey of approximately 160,000 business establishments in the mining, manufacturing, wholesale, and selected retail and services industries, as well as auxiliary establishments that support these industries. Respondents will report online for all four quarters of 2022, including the CFS expanded hazardous materials supplement in quarters 1 and 4.

The CFS is the primary source of information about freight movement in the United States. Estimates of shipment characteristics are published at different levels of aggregation. The CFS produces summary statistics and a public use data file. The survey covers shipments from establishments in the mining, manufacturing, wholesale, and selected retail industries, as well as auxiliary establishments that support these industries. Federal agencies, state and local transportation planners and policy makers, and private sector transportation managers, analysts, and researchers strongly support the conduct of the CFS.

Affected Public: Business or other for-profit organizations.

Frequency: The survey will be conducted quarterly over the course of one year.

Respondent's Obligation: Mandatory.

Legal Authority: Title 13 U.S.C., Sections 8(b), 131 and, 193. Title 13, U.S.C. 224 and 225 require response. The BTS also has authority to collect these data based on its enabling legislation, 49 U.S.C. 6302.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0932.

Sheleen Dumas,
Department PRA Clearance Officer, Office of the Chief Information Officer, Commerce Department.

[FR Doc. 2021-23995 Filed 11-2-21; 8:45 am]

BILLING CODE 3510-07-P